DEPARTMENT OF HOMELAND SECURITY

Coast Guard

33 CFR Part 117

[Docket No. USCG-2014-0035]

Drawbridge Operation Regulation; St. Croix River, Stillwater, MN

AGENCY: Coast Guard, DHS.

ACTION: Notice of deviation from drawbridge regulation; request for comments.

SUMMARY: The Coast Guard has issued a temporary deviation from the operating schedule that governs the Stillwater Highway Drawbridge across the St. Croix River, mile 23.4, at Stillwater, Minnesota. The deviation was requested by the City of Stillwater to perform a functional review of drawspan operation needs during the navigation season due to growing traffic congestion. This deviation will test an altered opening schedule operated Monday through Friday (Except Federal Holidays) for approximately 5 months.

DATES: This deviation is effective from May 15, 2014 through October 15, 2014. Comments and related material must be received by the Coast Guard on or before July 15, 2014. A public meeting will be held April 16, 2014.

ADDRESSES: You may submit comments identified by docket number USCG-2014-0035 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except Federal holidays. The telephone number is 202-366-9329.

See the “Public Participation and Request for Comments” portion of the SUPPLEMENTARY INFORMATION section below for instructions on submitting comments. To avoid duplication, please use only one of these methods. The public meeting will be held at the City of Stillwater Council Chambers Meeting Room, 216 North Forth Street, Stillwater, Minnesota.

FOR FURTHER INFORMATION CONTACT: If you have questions on this temporary deviation, call or email Eric A. Washburn, Bridge Administrator, Western Rivers, Coast Guard; telephone (314) 269-2378, email Eric.Washburn@uscg.mil. If you have questions on viewing the docket, call Cheryl Collins, Program Manager, Docket Operations, telephone (202) 366-9826.

SUPPLEMENTARY INFORMATION:

A. Public Participation and Request for Comments

We encourage you to provide input and feedback during this temporary deviation by submitting comments and related materials. All comments received will be posted, without change, to http://www.regulations.gov and will include any personal information you have provided.

1. Submitting Comments

If you submit a comment, please include the docket number for this deviation (USCG-2014-0035), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, type the docket number (USCG-2014-0035) in the “SEARCH” box and click “SEARCH.” Click on “Submit a Comment” on the line associated with this deviation. If you submit your comments by mail or hand delivery, submit them in an unbound format, no larger than 8½ by 11 inches, suitable for copying and electronic filing. If you submit them by mail and would like to know that they reached the Facility, please enclose a stamped, self-addressed postcard or envelope. We will consider all comments and material received during the comment period and may change or cancel this deviation based on your comments.

2. Viewing Comments and Document

To view comments, as well as document mentioned in this preamble as being available in the docket, go to http://www.regulations.gov, type the docket number (USCG-2014-0035) in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

A public meeting explaining the details and altered schedule for this deviation will be held April 16, 2014, at 6 p.m. in the City of Stillwater Council Chambers Meeting Room, 216 North Forth Street, Stillwater, Minnesota. This public meeting has also been noticed to the public through local avenues. We plan to record this meeting via audio and will upload a transcript for the meeting to the docket, which is accessible as explained under ADDRESSES. For information on facilities or services for individuals with disabilities or to request special assistance at the public meeting, contact the person listed above under the FOR FURTHER INFORMATION CONTACT section of this notice.

The City of Stillwater, Minnesota, requested a temporary deviation for the Stillwater Highway Drawbridge, across the St. Croix River, mile 23.4, at Stillwater, Minnesota. The existing operating schedule for this bridge was established approximately 20 years ago. This deviation is intended to test the operational needs of this drawbridge due to changes and growing congestion in the area. This deviation is temporary for the 2014 navigation season only. A new bridge in the area is planned to be completed in 2016 and the Stillwater Highway Bridge would then be altered to a pedestrian only bridge. Comments received in response to and the effects of this deviation will be taken into consideration both during the 2015 navigation season and in preparation for changes that may be necessary in 2016.

The temporary deviation will occur from May 15 through October 15, 2014, and the bridge will open on signal Monday through Friday, except Federal Holidays from:

(i) 8 a.m. to 1 p.m., every hour on the hour;

(ii) 1 p.m. to 3 p.m., every half hour;

(iii) 3:30 p.m. to 7 p.m., at 4 p.m., 6 p.m. and 7 p.m.;

(iv) 7 p.m. to 10 p.m., every half hour; and

(v) 10 p.m. to 8 a.m., upon at least two hours notice.

The Stillwater Highway Drawbridge currently operates in accordance with 33 CFR 117.667(b), which states specific seasonal and commuter hours operating requirements.

There are no alternate routes for vessels transiting this section of the St. Croix River.

The Stillwater Highway Drawbridge, in the closed-to-navigation position, provides a vertical clearance of 10.9 feet above normal pool. Navigation on the waterway primarily consists of commercial sightseeing/dinner cruise boats and recreational watercraft. This temporary deviation has been coordinated with waterway users. One objection to this deviation was received and will be available in the docket as indicated under ADDRESSES. This objection will also be presented at the public meeting on April 16. This deviation action will be monitored throughout its implementation, and if at any time it is determined a condition of unreasonable impediment to navigation exists, the deviation may be revised or cancelled.

In accordance with 33 CFR 117.35(e), the drawbridge must return to its regular operating schedule immediately at the end of the effective period of this temporary deviation. This deviation from the operating regulations is authorized under 33 CFR 117.35.

Dated: April 1, 2014.
Eric A. Washburn,
Bridge Administrator, Western Rivers.

[FR Doc. 2014-08263 Filed 4-11-14; 8:45 am]

BILLING CODE 9110-04-P